DEPARTMENT OF HOMELAND SECURITY

Coast Guard

[Docket No. USCG-2008-0098]

Certificate of Alternative Compliance for Tug LAURA K. MORAN

AGENCY: Coast Guard, DHS.

ACTION: Notice.

SUMMARY: In accordance with 33 U.S.C. 1605(c) the Coast Guard is providing notice that a Certificate of Alternative Compliance was issued for the Tug Laura K. Moran.

DATES: The letter in accordance with 33 U.S.C. 1605(c) was effective on February 22, 2008.

FOR FURTHER INFORMATION CONTACT: If you have questions on this notice, call Mr. Dennis Spain, Prevention Branch, U.S. Coast Guard, telephone 757-398-6558.

SUPPLEMENTARY INFORMATION: The Tug Laura K. Moran will be used for ship assist, escorting, and fire fighting operations. Full compliance with 72 COLREGS will hinder the Tug's ability to maneuver within close proximity of the side of vessels during maneuvering operations. Due to the design of the Tug and the required height of the side running lights it would be difficult and impractical to build supporting structure that would put the lights within 3.2′ from the side of Tug, as required by Annex I paragraph 3(b) of the 72 COLREGS. Compliance with the rule will cause the lights to be in a location which will be highly susceptible to damage from ships hulls or towlines. Locating the side running lights 11′2″ from the vessel side on top of the pilot house roof will provide a shelter location for the lights and allow maneuvering within close proximity to ships hulls.

A Certificate of Alternative Compliance, as allowed under Title 33, Code of Federal Regulation, Parts 81 and 89, has been issued for the towing vessel LAURA K. MORAN, O.N. 1208410. The Certificate of Alternative Compliance allows for the placement of the running lights to deviate from requirements set forth in Annex I paragraph 3(b) of 72 COLREGS.

Viewing of the Certificate: To view the Certificate of Alternative Compliance, go to http://www.regulations.gov at any time. Enter the docket number for this notice (USCG-2008-0098) in the Search box, and click “Go >>.” You may also visit the Docket Management Facility in Room W12-140 on the ground floor of the DOT West Building, 1200 New Jersey Avenue, SE., Washington, DC 20590, between 9 a.m. and 5 p.m., Monday through Friday, except Federal holidays.

Dated: March 4, 2008.
Fred M. Rosa, Jr.,
Rear Admiral, U.S. Coast Guard, Commander, Fifth Coast Guard District.

[FR Doc. E8-6122 Filed 3-25-08; 8:45 am]

BILLING CODE 4910-15-P